DEPARTMENT OF THE INTERIOR

National Park Service

[NPS-AKRO-ANIA-DENA-CAKR-LACL-KOVA-WRST-GAAR-33114; PPAKAKROR4; PPMPRLE1Y.LS0000]

National Park Service Alaska Region Subsistence Resource Commission Program; Notice of Public Meetings

AGENCY: National Park Service, Interior.

ACTION: Meeting notice.

SUMMARY: The National Park Service (NPS) is hereby giving notice that the Aniakchak National Monument Subsistence Resource Commission (SRC), the Denali National Park SRC, the Cape Krusenstern National Monument SRC, the Lake Clark National Park SRC, the Kobuk Valley National Park SRC, the Wrangell-St. Elias National Park SRC, and the Gates of the Arctic National Park SRC will meet as indicated below.

DATES: The Aniakchak National Monument SRC will meet via teleconference from 1:30 p.m. to 5:00 p.m. or until business is completed on Tuesday, March 1, 2022. The alternate meeting date is Tuesday, March 8, 2022, from 1:30 p.m. to 5:00 p.m. or until business is completed.

The Denali National Park SRC will meet via teleconference from 10:00 a.m. to 5:00 p.m. or until business is completed on Thursday, February 24, 2022. The alternate meeting date is Wednesday, March 2, 2022, from 10:00 a.m. to 5:00 p.m. or until business is completed.

The Cape Krusenstern National Monument SRC will meet via teleconference from 1:00 p.m. to 5:00 p.m. on Monday, February 28, 2022, and from 9:00 a.m. to 12:00 p.m. on Tuesday, March 1, 2022, or until business is completed. The alternate meeting dates are Tuesday, May 10, 2022, from 1:00 p.m. to 5:00 p.m., and Wednesday, May 11, 2022, from 9:00 a.m. to 12:00 p.m. or until business is completed.

The Lake Clark National Park SRC will meet via teleconference from 1:00 p.m. to 4:00 p.m. or until business is completed on Wednesday, March 30, 2022. The alternate meeting date is Wednesday, April 6, 2022, from 1:00 p.m. to 4:00 p.m. or until business is completed.

The Kobuk Valley National Park SRC will meet via teleconference from 1:00 p.m. to 5:00 p.m. on Thursday, February 24, 2022, and from 9:00 a.m. to 12:00 p.m. on Friday, February 25, 2022, or until business is completed. The alternate meeting dates are Thursday, May 12, 2022, from 1:00 p.m. to 5:00 p.m., and Friday, May 13, 2022, from 9:00 a.m. to 12:00 p.m. or until business is completed.

The Wrangell-St. Elias National Park SRC will via teleconference from 9:00 a.m. to 5:00 p.m. or until business is completed on both Wednesday, February 23, 2022, and Thursday, February 24, 2022. If business is completed on February 23, 2022, the meeting will adjourn, and no meeting will take place on February 24, 2022. The alternate meeting dates are Tuesday, March 1, 2022, from 9:00 a.m. to 5:00 p.m., and Wednesday, March 2, 2022, from 9:00 a.m. to 5:00 p.m. or until business is completed.

The Gates of the Arctic National Park SRC will meet via teleconference from 8:30 a.m. to 5:00 p.m. or until business is completed on both Wednesday, April 20, 2022, and Thursday, April 21, 2022. The alternate meeting dates are Thursday, May 5, 2022, from 8:30 a.m. to 5:00 p.m., and Friday, May 6, 2022, from 8:30 a.m. to 5:00 p.m. or until business is completed.

ADDRESSES: The Aniakchak National Monument SRC will meet via teleconference. Teleconference participants must call the NPS office at (907) 246-2154 prior to the meeting to receive teleconference passcode information. For more detailed information regarding these meetings, or if you are interested in applying for SRC membership, contact Designated Federal Officer Mark Sturm, Superintendent, at (907) 246-2120, or via email at mark_sturm@nps.gov, or Linda Chisholm, Subsistence Coordinator, at (907) 246-2154 or via email at linda_chisholm@nps.gov, or Kim Jochum, Federal Advisory Committee Group Federal Officer, at (907) 744-6438 or via email at kim_jochum@nps.gov.

The Denali National Park SRC will meet via teleconference. Teleconference participants must call the NPS office at (907) 644-3604 prior to the meeting to receive teleconference passcode information. For more detailed information regarding these meetings, or if you are interested in applying for SRC membership, contact Designated Federal Officer Brooke Merrell, Acting Superintendent, at (907) 683-9627, or via email at brooke_merrell@nps.gov or Amy Craver, Subsistence Coordinator, at (907) 644-3604 or via email at amy_craver@nps.gov or Kim Jochum, Federal Advisory Committee Group Federal Officer, at (907) 744-6438 or via email at kim_jochum@nps.gov.

The Cape Krusenstern National Monument SRC will meet via teleconference. Teleconference participants must call the NPS office at (907) 442-8342 prior to the meeting to receive teleconference passcode information. For more detailed information regarding this meeting or if you are interested in applying for SRC membership, contact Designated Federal Officer Jeanette Koelsch, Acting Superintendent, at (907) 443-6101, or via email at jeanette_koelsch@nps.gov, or Hannah Atkinson, Cultural Resource Specialist, at (907) 442-8342 or via email at hannah_atkinson@nps.gov or Kim Jochum, Federal Advisory Committee Group Federal Officer, at (907) 744-6438 or via email at kim_jochum@nps.gov.

The Lake Clark National Park SRC will meet via teleconference. Teleconference participants must call the NPS office at (907) 644-3648 prior to the meeting to receive teleconference passcode information. For more detailed information regarding this meeting or if you are interested in applying for SRC membership, contact Designated Federal Officer Susanne Green, Superintendent, at (907) 644-3627, or via email at susanne_green@nps.gov or Liza Rupp, Subsistence Manager, at (907) 644-3648 or via email at elizabeth_rupp@nps.gov or Kim Jochum, Federal Advisory Committee Group Federal Officer, at (907) 744-6438 or via email at kim_jochum@nps.gov.

The Kobuk Valley National Park SRC will meet via teleconference. Teleconference participants must call the NPS office at (907) 442-8342 prior to the meeting to receive teleconference passcode information. For more detailed information regarding this meeting or if you are interested in applying for SRC membership, contact Designated Federal Officer Jeanette Koelsch, Acting Superintendent, at (907) 443-6101, or via email at jeanette_koelsch@nps.gov, or Hannah Atkinson, Cultural Resource Specialist, at (907) 442-8342 or via email at hannah_atkinson@nps.gov or Kim Jochum, Federal Advisory Committee Group Federal Officer, at (907) 744-6438 or via email at kim_jochum@nps.gov.

The Wrangell-St. Elias National Park SRC will meet via teleconference. Teleconference participants must contact Barbara Cellarius, Subsistence Coordinator, at (907) 205-0157 or email wrst_subsistence@nps.gov by no later than 4:00 p.m. on Thursday, February 17, 2022, to receive teleconference passcode information. For more detailed information regarding these meetings, or if you are interested in applying for SRC membership, contact Designated Federal Officer Ben Bobowski, Superintendent, (907) 822-5234, or via email at ben_bobowski@nps.gov or Barbara Cellarius, Subsistence Coordinator, at (907) 205-0157 or via email at barbara_cellarius@nps.gov or Kim Jochum, Federal Advisory Committee Group Federal Officer, at (907) 744-6438 or via email at kim_jochum@nps.gov.

The Gates of the Arctic National Park SRC will meet via teleconference. Teleconference participants must call the NPS office at (907) 455-0639 prior to the meeting to receive teleconference passcode information. For more detailed information regarding this meeting or if you are interested in applying for SRC membership, contact Designated Federal Officer Jeff Rasic, Acting Superintendent, at (907) 750-7356, or via email at jeff_rasic@nps.gov or Marcy Okada, Subsistence Coordinator, at (907) 455-0639 or via email at marcy_okada@nps.gov or Kim Jochum, Federal Advisory Committee Group Federal Officer, at (907) 744-6438 or via email at kim_jochum@nps.gov.

SUPPLEMENTARY INFORMATION: The NPS is holding meetings pursuant to the Federal Advisory Committee Act (5 U.S.C. appendix 1-16). The NPS SRC program is authorized under title VIII, section 808 of the Alaska National Interest Lands Conservation Act (16 U.S.C. 3118).

SRC meetings are open to the public and will have time allocated for public testimony. The public is welcome to present written or oral comments to the SRC. SRC meetings will be recorded and meeting minutes will be available upon request from the Superintendent for public inspection approximately six weeks after the meeting.

Purpose of the Meeting: The agenda may change to accommodate SRC business. The proposed meeting agenda for each meeting includes the following:

1. Call to Order—Confirm Quorum

2. Welcome and Introduction

3. Review and Adoption of Agenda

4. Approval of Minutes

5. Superintendent's Welcome and Review of the SRC Purpose

6. SRC Membership Status

7. SRC Chair and Members' Reports

8. Superintendent's Report

9. Old Business

10. New Business

11. Federal Subsistence Board Update

12. Alaska Boards of Fish and Game Update

13. National Park Service Staff Reports

a. Superintendent/Ranger Reports

b. Resource Manager's Report

c. Subsistence Manager's Report

14. Public and Other Agency Comments

15. Work Session

16. Set Tentative Date and Location for Next SRC Meeting

17. Adjourn Meeting.

The SRC meetings may produce recommendations to the Secretary of the Interior and the Governor for any changes in the subsistence hunting program or its implementation which the commission deems necessary, pursuant to 16 U.S.C. 3118. The SRC meetings dates may change based on inclement weather or exceptional circumstances. If a meeting date is changed, the Superintendent will issue a press release and use local newspapers and/or radio stations to announce the rescheduled meeting.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. appendix 2.

Alma Ripps,
Chief, Office of Policy.

[FR Doc. 2022-02009 Filed 1-31-22; 8:45 am]

BILLING CODE 4312-52-P